DEPARTMENT OF AGRICULTURE

Farm Service Agency

[Docket ID: FSA-2023-0009]

Information Collection Requests; Guaranteed Farm Loan Program (OMB Control Number 0560-0155) and General Program Administration (OMB Control Number 0560-0238)

AGENCY: Farm Service Agency, USDA.

ACTION: Notice; request for comments.

SUMMARY: In accordance with the Paperwork Reduction Act (PRA) requirement, the Farm Service Agency (FSA) is requesting comments from all interested individuals and organizations on the two Farm Loan Programs' information collection requests. FSA is also requesting an extension with a revision for those currently approved information collection requests. The two collection requests in the Farm Loan Programs are: Guaranteed Farm Loan Program and General Program Administration. In the General Program Administration, the information collected is used to ensure that applicants meet statutory eligibility requirements, loan funds are used for authorized purposes, and the Government's interest in security is adequately protected. In the Guaranteed Farm Loan Program, the collected information is needed to make and service loans guaranteed by FSA to eligible farmers and ranchers by commercial lenders and nontraditional lenders.

DATES: We will consider comments that we receive by July 24, 2023.

ADDRESSES: We invite you to submit comments in response to this notice. FSA prefers that the comments are submitted electronically through the Federal eRulemaking Portal, identified by Docket ID No. FSA-2023-0009, go to http://www.regulations.gov and search for docket ID FSA-2023-0009. Follow the online instructions for submitting comments.

All comments received will be posted without change and made publicly available on www.regulations.gov.

FOR FURTHER INFORMATION CONTACT: For specific questions related to the collection activities: for the Guaranteed Farm Loan Program, please contact Steve Ford, 202-304-7932; steven.ford2@usda.gov and for the General Program Administration, please contact Tracy Jones, 202-720-6771, tracy.jones@usda.gov. Individuals who require alternative means for communication should contact the USDA TARGET Center at (202) 720-2600 (voice and text telephone (TTY)) or dial 711 for Telecommunications Relay service (both voice and text telephone users can initiate this call from any telephone).

SUPPLEMENTARY INFORMATION:

Title: Farm Loan Programs—Guaranteed Farm Loan.

OMB Control Number: 0560-0155.

Expiration Date: September 30, 2023.

Type of Request: Revision.

Abstract: This information collection is needed to effectively administer the FSA guaranteed farm loan programs. The information is collected by the FSA loan official in consultation with participating lenders. The basic objective of the guaranteed loan program is to provide credit to applicants who are unable to obtain credit from lending institutions without a guarantee. The reporting requirements imposed on the public by the regulations at 7 CFR part 762 and 763 are necessary to administer the guaranteed loan program in accordance with statutory requirements of the Consolidated Farm and Rural Development Act and are consistent with commonly performed lending practices. Collection of information after loans are made is necessary to protect the Government's financial interest.

The annual responses have been reduced by 18,974 while the burden hours reduced by 11,093 hours in the request. The reason for the decrease is due to a drop in Guaranteed loans originated between the years FY 2020 and FY 2022. Between FY 2019 and FY 2022, the number of Guaranteed loans fell by 19 percent from 7,611 to 6,137. In addition, the number of loss claims and status reports received is much lower than FY 2020.

For the following estimated total annual burden on respondents, the formula used to calculate the total burden hours is the estimated average time per response multiplied by the estimated total annual responses.

Estimate of Average Time to Respond: Public reporting burden for collecting information under this notice is estimated to average 0.8852 hours per response, including the time for reviewing instructions, searching existing data sources, gathering and maintaining the data needed, and completing and reviewing the collection of information.

Type of Respondents: Businesses or other for-profits and Farms.

Estimated Number of Respondents: 9,063.

Estimated Average Number of Responses per Respondent: 19.2733.

Estimated Total Annual Responses: 174,674.

Estimated Average Time per Response: 0.8852.

Estimated Total Annual Burden on Respondents: 154,631 hours.

Title: Farm Loan Programs—General Program Administration.

OMB Control Number: 0560-0238.

Expiration Date: September 30, 2023.

Type of Request: Revision.

Abstract: General Program Administration, as specified in the 7 CFR 761, contains requirements that are applicable to making and servicing direct loans. The information collections are necessary to ensure that applicants meet statutory eligibility requirements, loan funds are used for authorized purposes, and the Federal Government's interest in security is adequately protected. Specific information collection requirements include financial information in the form of a balance sheet and cash flow projection used in loan making and servicing decisions; information needed to establish joint bank accounts in which loan funds, proceeds derived from the sale of loan security and insurance proceeds, may be deposited; collateral pledges from financial institutions when the balance of a supervised bank account will exceed the maximum amount insurable by the Federal Government; and documents that construction plans and specifications to comply with state and local building standards.

The number of respondents has not changed since the last OMB submission. The number of responses decreased by 17,956 while the number of burden hours decreased by 18,603 in the information collection request. Those decreases were due to the Executive Order 14058 requiring FSA to simplify the direct loan application process. As such, forms FSA-2001, FSA-2002, FSA-2003, FSA-2004, FSA-2005, FSA-2006, FSA-2037, FSA-2038, FSA-2302, and FSA-2330 have been consolidated in a single form for the purposes of direct loan making and that consolidation is reflected in this collection. Forms FSA-2037 and FSA-2038 are covered by OMB Control Number 0560-0238. The revised FSA-2001 is used for direct loan making to replace the use of the listed forms; other FLP uses, for example loan servicing may still use the original forms in some cases. The consolidating of 10 forms illustrates the reduction in those responses and burden hours affected by the streamlining.

For the following estimated total annual burden on respondents, the formula used to calculate the total burden hours is the estimated average time per response multiplied by the estimated total annual responses.

Estimated Respondent Burden: Public reporting burden for this collection of information is estimated to average 1.00204 hours per response.

Type of Respondents: Individuals or households, businesses or other for profit and farms.

Estimated Number of Respondents: 64,802.

Estimated Number of Responses per Respondent: 2.259.

Estimated Total Annual Number of Responses: 146,434.

Estimated Average Time per Response: 1.0204 hours.

Estimated Total Annual Burden on Respondents: 149,426 hours.

FSA is requesting comments on all aspects of this information collection to help us to:

(1) Evaluate whether the collection of information is necessary for the proper performance of the functions of FSA, including whether the information will have practical utility;

(2) Evaluate the accuracy of FSA's estimate of burden including the validity of the methodology and assumptions used;

(3) Enhance the quality, utility and clarity of the information to be collected;

(4) Minimize the burden of the collection of information on those who are to respond, including using appropriate automated, electronic, mechanical, or other technological collection techniques or other forms of information technology.

All comments received in response to this notice, including names and addresses when provided, will be a matter of public record. Comments will be summarized and included in the submission for Office of Management and Budget approval.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Zach Ducheneaux,
Administrator, Farm Service Agency.

[FR Doc. 2023-10910 Filed 5-22-23; 8:45 am]

BILLING CODE 3410-E2-P